DEPARTMENT OF LABOR

Employment and Training Administration

[TA-W-54,150]

B.J. Cutting, a Subsidiary of Lawrence Stevens Fashions, LTD, Hazleton, PA; Notice of Termination of Investigation

Pursuant to section 221 of the Trade Act of 1974, as amended, an investigation was initiated on February 3, 2004 in response to a petition filed by a company official on behalf of workers at B.J. Cutting, a subsidiary of Lawrence Stevens Fashions, Ltd, Hazleton, Pennsylvania.

The petitioner has requested that the petition be withdrawn. Consequently, the investigation has been terminated.

Signed at Washington, DC this 17th day of March 2004.
Linda G. Poole,
Certifying Officer, Division of Trade Adjustment Assistance.

[FR Doc. 04-7583 Filed 4-2-04; 8:45 am]

BILLING CODE 4510-30-P